SECURITIES AND EXCHANGE COMMISSION

[File No. 500-1]

Colorado Wyoming Reserve Co., Grant Life Sciences, Inc., NOXSO Corp., Omni Medical Holdings, Inc., and TSI, Inc., Order of Suspension of Trading

August 18, 2011.

It appears to the Securities and Exchange Commission that there is a lack of current and accurate information concerning the securities of Colorado Wyoming Reserve Company because it has not filed any periodic reports since the period ended March 31, 2007.

It appears to the Securities and Exchange Commission that there is a lack of current and accurate information concerning the securities of Grant Life Sciences, Inc. because it has not filed any periodic reports since the period ended March 31, 2008.

It appears to the Securities and Exchange Commission that there is a lack of current and accurate information concerning the securities of NOXSO Corp. because it has not filed any periodic reports since the period ended December 31, 2004.

It appears to the Securities and Exchange Commission that there is a lack of current and accurate information concerning the securities of Omni Medical Holdings, Inc. because it has not filed any periodic reports since the period ended December 31, 2005.

It appears to the Securities and Exchange Commission that there is a lack of current and accurate information concerning the securities of TSI, Inc. because it has not filed any periodic reports since the period ended September 30, 2004.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on August 18, 2011 through 11:59 p.m. EDT on August 31, 2011.

By the Commission.
Jill M. Peterson,
Assistant Secretary.

[FR Doc. 2011-21481 Filed 8-18-11; 4:15 pm]

BILLING CODE 8011-01-P